DEPARTMENT OF HOMELAND SECURITY

Federal Emergency Management Agency

[Docket ID FEMA-2019-0002; Internal Agency Docket No. FEMA-B-1919]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Arizona:
Cochise | City of Sierra Vista (18-09-1540P) | The Honorable Rick Mueller, Mayor, City of Sierra Vista, 1011 North Coronado Drive, Sierra Vista, AZ 85635 | Community Development Department, 1011 North Coronado Drive, Sierra Vista, AZ 85635 | https://msc.fema.gov/portal/advanceSearch | Jun. 12, 2019 | 040017
Maricopa | City of Peoria (18-09-2141P) | The Honorable Cathy Carlat, Mayor, City of Peoria, 8401 West Monroe Street, Peoria, AZ 85345 | City Hall, 8401 West Monroe Street, Peoria, AZ 85345 | https://msc.fema.gov/portal/advanceSearch | Jun. 21, 2019 | 040050
Mohave | City of Bullhead City (18-09-1188P) | The Honorable Tom Brady, Mayor, City of Bullhead City, 2355 Trane Road, Bullhead City, AZ 86442 | Public Works Department, 2355 Trane Road, Bullhead City, AZ 86442 | https://msc.fema.gov/portal/advanceSearch | Jul. 2, 2019 | 040125
California:
San Diego | City of San Diego (18-09-1129P) | The Honorable Kevin L. Faulconer, Mayor, City of San Diego, 202 C Street, 11th Floor, San Diego, CA 92101 | Development Services Department, 1222 1st Avenue, MS301, San Diego, CA 92101 | https://msc.fema.gov/portal/advanceSearch | Jun. 19, 2019 | 060295
Solano | City of Vacaville (18-09-0833P) | The Honorable Ron Rowlett, Mayor, City of Vacaville, 650 Merchant Street, Vacaville, CA 95688 | Planning and Engineering, 650 Merchant Street, Vacaville, CA 95688 | https://msc.fema.gov/portal/advanceSearch | Jul. 1, 2019 | 060373
Florida:
Bay | City of Panama City Beach (18-04-6432P) | The Honorable Mike Thomas, Mayor, City of Panama City Beach, City Hall, 110 South Arnold Road, Panama City Beach, FL 32413 | City Hall, 110 South Arnold Road, Panama City Beach, FL 32413 | https://msc.fema.gov/portal/advanceSearch | Jun. 26, 2019 | 120013
Miami-Dade | City of Miami (19-04-0054P) | The Honorable Tomas P. Regaldo, Mayor, City of Miami, 3500 Pan American Drive, Miami, FL 33133 | Emergency Management Department, 444 Southwest 2nd Avenue, 10th Floor, Miami, FL 33130 | https://msc.fema.gov/portal/advanceSearch | Jul. 5, 2019 | 120650
Hawaii: Hawaii | Hawaii County (18-09-2287P) | The Honorable Harry Kim, Mayor, County of Hawaii, 25 Aupuni Street, Suite 2603, Hilo, HI 96720 | Hawaii County Department of Public Works, Engineering Division, 101 Pauahi Street, Suite 7, Hilo, HI 96720 | https://msc.fema.gov/portal/advanceSearch. | Jun. 28, 2019 | 155166
Illinois:
Kane | Village of Hampshire (18-05-5585P) | The Honorable Jeffrey Magnussen, Village President, Village of Hampshire, P.O. Box 457, Hampshire, IL 60140 | Village Hall, 234 South State Street, Hampshire, IL 60140 | https://msc.fema.gov/portal/advanceSearch | Jun. 20, 2019 | 170327
Will | Village of Homer Glen (18-05-6035P) | The Honorable George Yukich, Mayor, Village of Homer Glen, 14240 West 151st Street, Homer Glen, IL 60491 | Village Hall, 14240 West 151st Street, Homer Glen, IL 60491 | https://msc.fema.gov/portal/advanceSearch | Jul. 5, 2019 | 171080
Indiana: Allen | City of Fort Wayne (18-05-6504P) | The Honorable Tom Henry, Mayor, City of Fort Wayne, Citizens Square, 200 East Berry Street, Suite 420, Fort Wayne, IN 46802 | Department of Planning Services, 200 East Berry Street, Suite 150, Fort Wayne, IN 46802 | https://msc.fema.gov/portal/advanceSearch | Jun. 26, 2019 | 180003
Iowa: Black Hawk | City of Waterloo (18-07-1103P) | The Honorable Quentin M. Hart, Mayor, City of Waterloo, 715 Mulberry Street, Waterloo, IA 50703 | City Hall, 715 Mulberry Street, Waterloo, IA 50703 | https://msc.fema.gov/portal/advanceSearch | Jul. 1, 2019 | 190025
Kansas:
Johnson | City of Shawnee (18-07-1853P. | The Honorable Michelle Distler, Mayor, City of Shawnee, Shawnee City Hall, 11110 Johnson Drive, Shawnee, KS 66203 | City Hall, 11110 Johnson Drive, Shawnee, KS 66203 | https://msc.fema.gov/portal/advanceSearch | Jul. 3, 2019 | 200177
Johnson | City of Shawnee (18-07-2004P) | The Honorable Michelle Distler, Mayor, City of Shawnee, Shawnee City Hall, 11110 Johnson Drive, Shawnee, KS 66203 | City Hall, 11110 Johnson Drive, Shawnee, KS 66203 | https://msc.fema.gov/portal/advanceSearch | Jun. 26, 2019 | 200177
Clay | City of Moorhead (18-05-1711P) | The Honorable Del Rae Williams, Mayor, City of Moorhead, City Hall, 500 Center Avenue, Moorhead, MN 56561 | City Hall, 500 Center Avenue, Moorhead, MN 56561 | https://msc.fema.gov/portal/advanceSearch | May 17, 2019 | 275244
Clay | Unincorporated Areas of Clay County (18-05-1711P) | The Honorable Jenny Mongeau, Chair, Clay County Board of Commissioners Clay County Courthouse, 807 11th Street, North Commission Room, 3rd Floor Moorhead, MN 56560 | Clay County Courthouse, 8107 11th Street, Moorhead, MN 56560 | https://msc.fema.gov/portal/advanceSearch | May 17, 2019 | 275235
Nevada: Clark | City of North Las Vegas (18-09-2027P) | The Honorable John J. Lee, Mayor, City of North Las Vegas, 2250 Las Vegas Boulevard North, North Las Vegas, NV 89030 | Public Works Department, 2250 Las Vegas Boulevard North, Suite 200, North Las Vegas, NV 89030 | https://msc.fema.gov/portal/advanceSearch | Jul. 3, 2019 | 320007
Ohio: Lorain | City of Avon Lake (18-05-3982P) | The Honorable Greg Zilka, Mayor, City of Avon Lake, City Hall, 150 Avon Belden Road, Avon Lake, OH 44012 | City Hall, 150 Avon Belden Road, Avon Lake, OH 44012 | https://msc.fema.gov/portal/advanceSearch | Jun. 26, 2019 | 390602
Washington:
Island | Unincorporated Areas of Island County (18-10-1156P) | Ms. Jill Johnson, Chair, Island County Commissioners, Administration Building, 1 Northeast 7th Street, Room 214, Coupeville, WA 98239 | Island County Courthouse Annex, 1 Northeast 6th Street, Coupeville, WA 98239 | https://msc.fema.gov/portal/advanceSearch | Jun. 27, 2019 | 530312
Pierce | City of Puyallup (19-10-0145P) | The Honorable John Palmer, Mayor, City of Puyallup, Puyallup City Hall, 333 South Meridian, Puyallup, WA 98371 | City Hall, 333 South Meridian, Puyallup, WA 98371 | https://msc.fema.gov/portal/advanceSearch | Jun. 28, 2019 | 530144

[FR Doc. 2019-06685 Filed 4-4-19; 8:45 am]

BILLING CODE 9110-12-P